DEPARTMENT OF THE INTERIOR

Bureau of Reclamation

Salton Sea Restoration Project, Riverside and Imperial Counties, California

AGENCY: Bureau of Reclamation, Interior.

ACTION: Notice of public hearing for Draft Environmental Impact Statement/Draft Environmental Impact Report (DEIS/DEIR).

SUMMARY: Pursuant to section 102(2)(C) of the National Environmental Policy Act (NEPA) of 1969, as amended and the California Environmental Quality Act (CEQA), the Bureau of Reclamation (Reclamation) has prepared a joint DEIS/DEIR for the Salton Sea Restoration Project (SSRP). The DEIS/DEIR was made available to the public on January 26, 2000. Reclamation and the Salton Sea Authority (SSA) have scheduled four public hearings to receive comments from interested organizations and individuals on the environmental impacts of the project.

DATES: The public hearings will be held Wednesday, March 1, 2000, from 1 to 4 p.m. and from 6 to 9 p.m; and on Thursday, March 2, 2000, from 1 to 4 p.m. and from 6 to 9 p.m. Sign-in for the hearings will begin 30 minutes prior to the scheduled hearing times.

ADDRESSES: The public hearings will be held at the following locations:

• March 1, 2000, 1 to 4 p.m., Imperial Irrigation District Board Room, 81-600 Avenue 58, La Quinta, California

• March 1, 2000, 6 to 9 p.m., Coachella Valley Association of Governments, 73-710 Fred Waring Drive, Room 119, Palm Desert, California

• March 2, 2000, 1 to 4 p.m., Brawley Chamber of Commerce, 204 South Imperial Avenue, Brawley, California

• March 2, 2000, 6 to 9 p.m., VFW West Shore Post 3251, 50 Desert Shores Drive, Desert Shores, California

Written comments on the DEIS/DEIR should be addressed to Mr. Tom Kirk, Director, SSA, 78-401 Highway 111, Suite T, La Quinta, CA 92253; or to Mr. William Steele, Program Manager, Salton Sea Project, Bureau of Reclamation (Reclamation), PO Box 61470, Boulder City, NV 89006-1470.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Mr. Tom Kirk, SSA, at (760) 564-4888; or Mr. William Steele, Reclamation, at (702) 293-8129.

SUPPLEMENTARY INFORMATION: The Salton Sea is an artificially maintained inland body of water located in the southeastern corner of California, southeast of Palm Springs, and spans Riverside and Imperial counties. Scientific, environmental, and engineering studies have been conducted for the SSRP to address environmental issues that have arisen since the creation of the sea. Five project alternatives have been developed to address project goals. The DEIS/DEIR describes and presents the environmental effects of the five alternatives as well as the No Action Alternative.

Requests To Testify

Those wishing to request, in advance, a time to make comments at the hearings prior to the hearing dates should write or call Ms. Nadine Mupas, Salton Sea Authority, 78-401 Highway 111, Suite T, La Quinta, CA 92253, telephone: (760) 564-4888. Requests should indicate at which session the speaker wishes to appear. Speakers will be called upon to present their comments in the order in which their requests were received by the SSA. Requests to speak may also be made at each session; those requesters will be called to speak after the advance requests.

Oral comments will be limited to 5 minutes per individual. The meeting facilitator will allow any speaker to provide additional oral comments after all persons wishing to comment have been heard.

Written comments from those unable to attend or those wishing to supplement their oral presentation at the hearing should be received by Mr. Tom Kirk, SSA; or Mr. William Steele, Reclamation, at the above addresses by April 25, 2000, (the end of the DEIS/DEIR public comment period) for consideration in the Final EIS/EIR.

Note: If special assistance is required, contact Nadine Mupas at (760) 564-4888 as far in advance of the hearings as possible and not less than 1 week before each hearing, to enable securing the needed services. If a request cannot be honored, the requester will be notified.

Dated: February 10, 2000.
Eluid L. Martinez,
Commissioner, Bureau of Reclamation.

[FR Doc. 00-3577 Filed 2-15-00; 8:45 am]

BILLING CODE 4310-94-P